COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date added to and deleted from the Procurement List: January 12, 2025.

ADDRESSES: Committee for Purchase From People Who Are Blind or Severely Disabled, 355 E Street SW, Suite 325, Washington, DC 20024.

FOR FURTHER INFORMATION CONTACT: Mike Jurkowski, Telephone: (703) 489-1322, or email CMTEFedReg@AbilityOne.gov.

SUPPLEMENTARY INFORMATION:

Deletions

On 11/04/2024 (89 FR 87570) and on 11/08/2024 (89 FR 88738), the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List

Product(s)

NSN(s)—Product Name(s):

8465-01-580-1303—Entrenching Tool Carrier, MOLLE Components, OEFCP

Authorized Source of Supply: Chautauqua County Chapter, NYSARC, Jamestown, NY

Authorized Source of Supply: Dallas Lighthouse for the Blind, Inc., Dallas, TX

Contracting Activity: DLA TROOP SUPPORT, PHILADELPHIA, PA

Contracting Activity: W6QK ACC-APG NATICK, NATICK, MA

NSN(s)—Product Name(s):

9905-01-661-2143—Flag, Marking, 2½″ x 3½″, 21″ Staff, Fluorescent Orange

9905-01-661-2147—Flag, Marking, 2½″ x 3½″, 15″ Staff, Yellow

9905-01-661-2148—Flag, Marking, 2½″ x 3½″, 15″ Staff, Red

9905-01-661-2152—Flag, Marking, 4″ x 5″, 21″ Staff, Orange

Authorized Source of Supply: West Texas Lighthouse for the Blind, San Angelo, TX

Contracting Activity: GSA/FSS GREATER SOUTHWEST ACQUISITI, FORT WORTH, TX

NSN(s)—Product Name(s):

8455-01-388-8485—Insignia, US Air Force, Master Sergeant, Embroidered

Authorized Source of Supply: Westmoreland County Association, Greensburg, PA

Contracting Activity: DLA TROOP SUPPORT, PHILADELPHIA, PA

NSN(s)—Product Name(s):

7210-00-118-0010—Cover, Mattress Pad, Olive Green, 28″ x 77″

Authorized Source of Supply: Westmoreland County Association, Greensburg, PA

Contracting Activity: DLA TROOP SUPPORT, PHILADELPHIA, PA

Service(s)

Service Type: Recycling Service

Mandatory for: US Army, US Army Garrison Hawaii, Aliamanu Military Reservation, Honolulu, HI

Authorized Source of Supply: Goodwill Contract Services of Hawaii, Inc., Honolulu, HI

Contracting Activity: DEPT OF THE ARMY, 0413 AQ HQ

Service Type: Recycling Service

Mandatory for: US Army, US Army Garrison Hawaii, 742 Santos Dumont Avenue, Schofield Barracks, HI

Authorized Source of Supply: Goodwill Contract Services of Hawaii, Inc., Honolulu, HI

Contracting Activity: DEPT OF THE ARMY, 0413 AQ HQ

Service Type: Recycling Service

Mandatory for: US Army, US Army Garrison Hawaii, Tripler Army Medical Center,1 Jarrett White Road, Honolulu, HI

Authorized Source of Supply: Goodwill Contract Services of Hawaii, Inc., Honolulu, HI

Contracting Activity: DEPT OF THE ARMY, 0413 AQ HQ

Service Type: Recycling Service

Mandatory for: US Army, US Army Garrison Hawaii, Fort Shafter, Fort Shafter, HI

Authorized Source of Supply: Goodwill Contract Services of Hawaii, Inc., Honolulu, HI

Contracting Activity: DEPT OF THE ARMY, 0413 AQ HQ

Service Type: Recycling Service

Mandatory for: US Army, US Army Garrison Hawaii, Helemano Military Reservation, Fort Shafter, HI

Authorized Source of Supply: Goodwill Contract Services of Hawaii, Inc., Honolulu, HI

Contracting Activity: DEPT OF THE ARMY, 0413 AQ HQ

Service Type: Recycling Service

Mandatory for: US Army, US Army Garrison Hawaii, Pililaau Army Recreation Center, 85-10 Army Street, Waianae, HI

Authorized Source of Supply: Goodwill Contract Services of Hawaii, Inc., Honolulu, HI

Contracting Activity: DEPT OF THE ARMY, 0413 AQ HQ

Service Type: Recycling Service

Mandatory for: US Army, US Army Garrison Hawaii, Wheeler Army Airfield, Schofield Barracks, 742 Santos Dumont Avenue, Oahu, HI

Authorized Source of Supply: Goodwill Contract Services of Hawaii, Inc., Honolulu, HI

Contracting Activity: DEPT OF THE ARMY, 0413 AQ HQ

Service Type: Grounds Maintenance

Mandatory for: Constitution Gardens, Washington, DC

Authorized Source of Supply: Melwood Horticultural Training Center, Inc., Upper Marlboro, MD

Contracting Activity: OFFICE OF POLICY, MANAGEMENT, AND BUDGET, NBC ACQUISITION SERVICES DIVISION

Service Type: Administrative Service

Mandatory for: National Park Service: 12795 W Alameda Parkway, Lakewood, CO

Authorized Source of Supply: Bayaud Enterprises, Inc., Denver, CO

Contracting Activity: OFFICE OF POLICY, MANAGEMENT, AND BUDGET, NBC ACQUISITION SERVICES DIVISION

Michael R. Jurkowski,
Director, Business Operations.

[FR Doc. 2024-29425 Filed 12-12-24; 8:45 am]

BILLING CODE 6353-01-P